OFFICE OF THE UNITED STATES TRADE REPRESENTATIVE

Notice of Proposed Measure and Opportunity for Public Comment Pursuant to Section 421 of the Trade Act of 1974: Certain Passenger Vehicle and Light Truck Tires From the People's Republic of China

AGENCY: Office of the United States Trade Representative.

ACTION: Notice of proposed measure; request for comments.

SUMMARY: The United States International Trade Commission (ITC) has determined, pursuant to section 421(b)(1) of the Trade Act of 1974, as amended (the Trade Act) (19 U.S.C. 2451(b)(1)), that certain passenger vehicle and light truck tires ¹ from the People's Republic of China (China) are being imported into the United States in such increased quantities or under such conditions as to cause market disruption to the domestic producers of like or directly competitive products. Pursuant to section 421(h)(1) of the Trade Act, the United States Trade Representative (USTR) is publishing notice of proposed restrictions with respect to imports of Chinese tires. USTR invites domestic producers, importers, exporters, and other interested parties to submit their views and evidence on the appropriateness of the proposed restrictions and whether they would be in the public interest. USTR also invites interested parties to participate in a public hearing (if one is requested).

¹

For purposes of its investigation, the ITC considered certain passenger vehicle and light truck tires to consist of new pneumatic tires, of rubber, from China, of a kind used on motor cars (except racing cars) and on-the-highway light trucks, vans, and sport utility vehicles, provided for in subheadings 4011.10.10, 4011.10.50, 4011.20.10, and 4011.20.50 of the Harmonized Tariff Schedule of the United States (hereafter “Chinese tires”).

DATES: Requests for USTR to hold a public hearing are due by July 27, 2009. Written comments and requests to testify at any public hearing are also due by July 27, 2009. If USTR receives a request to hold a public hearing, the hearing will be held on August 7, 2009.

ADDRESSES: Requests and written comments should be submitted electronically via the Internet at http://www.regulations.gov, docket number USTR-2009-0017. If you are unable to provide on-line submissions, please contact Sandy McKinzy, Legal Technician, at (202) 395-9483 to arrange for an alternative method of transmission.

FOR FURTHER INFORMATION CONTACT: For procedural questions concerning public comments and holding of a public hearing, contact Sandy McKinzy, Legal Technician, USTR, telephone (202) 395-9483. Other questions should be addressed to Terrence J. McCartin, Office of China Affairs, USTR, telephone (202) 395-3900, or María L. Pagán, Office of General Counsel, USTR, telephone (202) 395-7305.

SUPPLEMENTARY INFORMATION:

1. The ITC Investigation and Section 421

Following receipt of a petition filed on April 20, 2009, by the United Steel, Paper and Forestry, Rubber, Manufacturing, Energy, Allied Industrial and Service Workers International Union (“USW”), the ITC instituted investigation No. TA-421-7, under section 421 of the Trade Act (19 U.S.C. 2451) to determine whether Chinese tires are being imported into the United States in such increased quantities or under such conditions as to cause or threaten to cause market disruption to the domestic producers of like or directly competitive products. The ITC made an affirmative market disruption determination on June 18, 2009, and transmitted a report on its determination, as well as its remedy proposals, to USTR on July 9, 2009. The views of the ITC, including its remedy proposals, and the ITC staff report, are available on the ITC's Web site (http://www.usitc.gov) and are contained in USITC Publication 4085 (July 2009), entitled “Certain Passenger Vehicle and Light Truck Tires from China.” A copy of that publication can be obtained from the ITC after July 30, 2009, by e-mailing pubrequest@usitc.gov, calling (202) 205-2000, or writing to the Office of the Secretary, 500 E Street, SW., Washington, DC 20436. Requests may also be faxed to (202) 205-2104.

Following an affirmative determination by the ITC, and pursuant to Section 421(h) of the Trade Act, USTR is required to make a recommendation to the President concerning what action, if any, the President should take to remedy the market disruption. Within 15 days after receiving USTR's recommendation, the President is required to provide import relief unless the President determines that providing such relief is not in the national economic interest of the United States or, in extraordinary cases, that taking action would cause serious harm to the national security of the United States. (Section 421(k).) Before making a recommendation, USTR is required to publish notice of any measures it may propose and provide an opportunity to comment.

2. Proposed Measure and Opportunity for Comment

The ITC recommended that the President impose an additional duty for three years on imports of Chinese tires as follows: 55 percent ad valorem in the first year, 45 percent ad valorem in the second year, and 35 percent ad valorem in the third year. The ITC further recommended that, if applications are filed, the President direct the Department of Commerce and the Department of Labor to provide expedited consideration of trade adjustment assistance for workers and/or firms affected by imports of Chinese tires. USTR proposes this remedy for further consideration by domestic producers, importers, exporters, and other interested parties, and invites any of these parties to submit their views and evidence on the appropriateness of the proposed remedy and whether it would be in the public interest. In addition, USTR invites comments on other possible actions, including: imposing an additional duty on imports of Chinese tires at a rate, and/or for a period, different from the ITC recommendation; imposing a tariff-rate quota on imports of Chinese tires; imposing a quota on imports of Chinese tires; an import monitoring mechanism; or no import relief (pursuant to a determination under Section 421(k) of the Trade Act regarding the national economic interest or national security). In commenting on other possible actions, interested parties are requested to address the appropriateness of any other proposed action and how it would be in the public interest, and address: (i) The short- and long-term effects the proposed action is likely to have on the domestic passenger vehicle and light truck tires industry, other domestic industries, and downstream consumers, and (ii) the short- and long-term effects that not taking the proposed action is likely to have on the domestic passenger vehicle and light truck tires industry, its workers, and on other domestic industries or communities.

USTR will inform parties that have submitted comments and/or requested to testify at any public hearing if a hearing is to be held. In addition, information on any public hearing may be obtained by contacting Sandy McKinzy, Legal Technician, at (202) 395-9483. If a public hearing is requested, it will be held on August 7, 2009, at 9:30 a.m. in Rooms 1 and 2, 1724 F Street, NW., Washington, DC. Requests to testify must include the following information: (1) Name, address, telephone number, fax number, and firm or affiliation of the person wishing to testify; and (2) a brief summary of the comments to be presented.

3. Requirements for Submissions

To submit requests or comments via http://www.regulations.gov, enter docket number USTR-2009-0017 on the home page and click “go”. The site will provide a search-results page listing all documents associated with this docket. Find a reference to this notice by selecting “Notice” under “Document Type” on the left side of the search-results page, and click on the link entitled “Send a Comment or Submission.” (For further information on using the http://www.regulations.gov Web site, please consult the resources provided on the Web site by clicking on “How to Use This Site” on the left side of the home page.)

The http://www.regulations.gov Web site provides the option of making submissions by filling in a “General Comments” field, or by attaching a document. We expect that most submissions will be provided in an attached document. If a document is attached, it is sufficient to type “See attached” followed by (as appropriate) “Written Comments”, “Request for Public Hearing”, or “Request to Testify” in the “General Comments” field.

Submissions in Microsoft Word (.doc) or Adobe Acrobat (.pdf) are preferred. If you use an application other than those, please identify the application in your submission. For any document submitted electronically containing business confidential information, the file name of the business confidential version should begin with the characters “BC”, and the file name of the public version should begin with the character “P”. The “P” or “BC” should be followed by the name of the submitter. If you submit comments that contain no business confidential information, the file name should begin with the character “P”, followed by the name of the submitter. Submissions should not attach a separate cover letter; rather, information that might appear in a cover letter should be included in the submission itself. To the extent possible, any attachments to the submission should be included in the same file as the submission itself, and not as separate files.

We strongly urge submitters to use electronic filing. If on-line submission is impossible, please contact Sandy McKinzy at (202) 395-9483 to arrange for an alternative method of transmission.

Eric G. Altbach,
Deputy Assistant United States Trade Representative for China Affairs.

[FR Doc. E9-16824 Filed 7-14-09; 8:45 am]

BILLING CODE 3190-W9-P